ENVIRONMENTAL PROTECTION AGENCY

[FRL-9255-8]

Science Advisory Board Staff Office; Notification of a Public Meeting of the Clean Air Scientific Advisory Committee (CASAC) Oxides of Nitrogen (NOX) and Sulfur Oxides (SOX) Secondary Review Panel

AGENCY: Environmental Protection Agency (EPA).

ACTION: Notice.

SUMMARY: The Environmental Protection Agency (EPA or Agency) Science Advisory Board (SAB) Staff Office announces a public meeting on February 15 and 16, 2011, of the Clean Air Scientific Advisory Committee (CASAC) Oxides of Nitrogen (NOX) and Sulfur Oxides (SOX) Secondary Review Panel to provide review comments on EPA's Policy Assessment for the Review of the Secondary National Ambient Air Quality Standards for NOX and SOX (January 2011).

DATES: The CASAC Oxides of Nitrogen and Sulfur Oxides Secondary Review Panel meeting will be held on Tuesday, February 15, 2011 from 9 a.m. to 5 p.m. (Eastern Time) and on Wednesday, February 16, 2011 from 8 a.m. to 10 p.m. (Eastern Time).

ADDRESSES: The public meeting will be held at the Carolina Inn, 211 Pittsboro Street Chapel Hill, NC 27516 (919-933-2001).

FOR FURTHER INFORMATION CONTACT: Any member of the public who want further information concerning the February 15 and 16, 2011 public meeting may contact Dr. Holly Stallworth, Designated Federal Officer (DFO), EPA Science Advisory Board (1400R), U.S. Environmental Protection Agency, 1300 Pennsylvania Avenue, NW., Washington, DC 20004; via telephone/voice mail (202) 546-2073; fax (202) 565-2098; or e-mail at stallworth.holly@epa.gov. General information concerning the CASAC and the CASAC documents can be found on the EPA Web site at http://www.epa.gov/casac.

SUPPLEMENTARY INFORMATION: Background: Pursuant to the Federal Advisory Committee Act (FACA), Public Law 92-463 5 U.S.C., App. 2, notice is hereby given that the CASAC NOX and SOX Secondary NAAQS Review Panel will hold a public meeting to provide review comments on the public welfare implications of standards for NOX and SOX. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel will comply with the provisions of FACA and all appropriate SAB Staff Office procedural policies.

Section 109(d)(1) of the CAA requires that the Agency periodically review and revise, as appropriate, the air quality criteria and the NAAQS for the six “criteria” air pollutants, including NOX and SOX. EPA is reviewing public welfare effects associated with NOX and SOX which, as defined in the CAA include, but are not limited to, effects on soils, water, wildlife, vegetation, visibility, weather, and climate, as well as effects on materials, economic values, and personal comfort and well-being. The CASAC NOX and SOX Secondary NAAQS Review Panel has provided advice and review of EPA's assessments of the secondary NAAQS for NOX and SOX since 2008. Information about these activities can be found on the CASAC Web site at http://yosemite.epa.gov/sab/sabproduct.nsf/WebProjectsbyTopicCASAC Open View. On April 1-2, 2010, the CASAC Panel held a meeting at the request of EPA's Office of Air and Radiation to review EPA's draft document entitled Policy Assessment for the Review of the Secondary National Ambient Air Quality Standards for NOX and SOX: First External Review Draft (March 2010) (75 FR 10479-10481). CASAC provided EPA with an advisory report reviewing that draft document on June 22, 2010 [Review of the Policy Assessment for the Review of the Secondary National Ambient Air Quality Standards for NOX and SOX: First Draft (March 2010) (EPA-CASAC-10-014)], available at http://yosemite.epa.gov/sab/sabproduct.nsf/33219585C42C55218525777A006DE787/$File/EPA-CASAC-10-014-unsigned.pdf. As noticed in 75 FR 54871-54872, on October 6-7, 2010, the CASAC Panel met to review EPA's Policy Assessment for the Review of the Secondary National Ambient Air Quality Standards for NOX and SOX: Second External Review Draft (September 2010). CASAC transmitted its advisory report reviewing the second draft Policy Assessment on December 9, 2010 [Review of the Policy Assessment for the Review of the Secondary National Ambient Air Quality Standard for NOX and SOX: Second Draft (EPA-CASAC-11-003)], available at http://yosemite.epa.gov/sab/sabproduct.nsf/0/0fc13c821ee6181a85257473005ae1ec!OpenDocument&TableRow=2.3#2. CASAC will meet on February 15 and 16, 2011 to review EPA's final Policy Assessment.

Technical Contacts: Any technical questions concerning the Policy Assessment may be directed to Dr. Richard Scheffe at scheffe.rich@epa.gov or 919-541-4650.

Availability of Meeting Materials: The EPA will post the final Policy Assessment at http://www.epa.gov/ttn/naaqs/standards/no2so2sec/cr_pa.html. Prior to the meeting, the agenda and other materials will be accessible through the calendar link on the blue navigation bar at http://www.epa.gov/casac/.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: To be placed on the public speaker list for the meeting, interested parties should notify Dr. Stallworth, DFO, by e-mail no later than February 7, 2011. Individuals making oral statements will be limited to five minutes per speaker. Written Statements: Written statements for the meeting should be received in the SAB Staff Office by February 7, 2011 so that the information may be made available to the Panel for its consideration prior to this meeting. Written statements should be supplied to the DFO via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: January 13, 2011.
Anthony F. Maciorowski,
Deputy Director, EPA Science Advisory Board Staff Office.

[FR Doc. 2011-1347 Filed 1-21-11; 8:45 am]

BILLING CODE 6560-50-P